DEPARTMENT OF HOMELAND SECURITY

Coast Guard

46 CFR Parts 67 and 68

[USCG-2005-20258]

RIN 1625-AA95

Vessel Documentation: Lease Financing for Vessels Engaged in the Coastwise Trade

AGENCY: Coast Guard, DHS.

ACTION: Final rule; announcement of effective date for collection of information requirements.

SUMMARY: In the final rule with this same title published October 18, 2006, we noted that the Office of Management and Budget (OMB) had not approved a collection-of-information associated with the amendments by §§ 68.65, 68.70, 68.75, 68.100, 68.107, and 68.109, to the collection-of-information requirements for vessel owners and charterers applying to engage in the coastwise trade under the lease financing provisions of 46 U.S.C. 12119 (formerly 46 U.S.C. 12106(e)). OMB has since approved that collection-of-information and the portions of the rule with these requirements are effective August 29, 2007.

DATES: Effective Date: The amendments to 46 CFR 68.65, 68.70, 68.75, 68.100, 68.107, and 68.109, as published in the Federal Register on October 18, 2006 (71 FR 61413) are effective August 29, 2007.

FOR FURTHER INFORMATION CONTACT: If you have questions on this document, call Patricia Williams, Deputy Director, National Vessel Documentation Center, U.S. Coast Guard, telephone 304-271-2506. If you have questions on viewing the docket (USCG-2005-20258), call Renee V. Wright, Program Manager, Docket Operations, telephone 202-493-0402.

SUPPLEMENTARY INFORMATION: A final rule concerning applications to engage in the coastwise trade under the lease financing provisions of 46 U.S.C. 12119 became effective on November 17, 2006, with the exception of the collection of information requirements in the amendments to 46 CFR 68.65, 68.70, 68.75, 68.100, 68.107, and 68.109. Title 46 CFR 68.65 requires a vessel owner who seeks an initial, or renewal of, coastwise endorsement, to submit a certification of ownership in writing to the Director of the NVDC. 46 CFR 68.70 requires an owner of a vessel other than a barge qualified to engage in coastwise trade under the lease financing provisions of 46 U.S.C. 12119 to submit a certified application for the coastwise operation of a vessel under a demise charter. 46 CFR 68.75 requires an owner of a barge qualified to engage in coastwise trade under the lease financing provisions of 46 U.S.C. 12119 to submit certifications and documents supporting an application for the coastwise operation of a barge under a demise charter. 46 CFR 68.100 sets out applicability provisions and phase-in dates. 46 CFR 68.107 requires an owner of a vessel other than a barge qualified to engage in coastwise trade under the lease financing provisions of 46 U.S.C. 12119 to submit certifications, certain supporting documents, and a certified application for the coastwise operation of a vessel under a demise charter. 46 CFR 68.109 requires an owner of a barge qualified to engage in coastwise trade under the lease financing provisions of 46 U.S.C. 12119 to submit certifications, certain supporting documents, and a certified application for the coastwise operation of a vessel under a demise charter.

The final rule that contained the provisions for these certifications, supporting documents and applications was published in the Federal Register on October 18, 2006 (71 FR 61413), and is available electronically through the docket (USCG-2005-20258) at http://dms.dot.gov/. As required by 44 U.S.C. 3507(d), we submitted a copy of the final rule to OMB for its review. On January 10, 2007, after reviewing the rule, OMB approved the collection-of-information required in §§ 68.65, 68.70, 68.75, 68.100, 68.107, and 68.109 of the final rule under OMB control number 1625-0027.

Dated: August 22, 2007.
J.G. Lantz,
Acting Assistant Commandant for Prevention, U.S. Coast Guard.

[FR Doc. E7-17075 Filed 8-28-07; 8:45 am]

BILLING CODE 4910-15-P